NUCLEAR REGULATORY COMMISSION

[DOCKET NO. 050-213]

Notice of Availability of Environmental Assessment and Finding of No Significant Impact For Exemption From Certain Control and Tracking Requirements in 10 CFR Part 20, Appendix G, Section III.E for Connecticut Yankee Atomic Power Company, East Hampton, CT

AGENCY: Nuclear Regulatory Commission.

ACTION: Notice of availability.

FOR FURTHER INFORMATION CONTACT: Theodore B. Smith, Project Manager, Decommissioning Directorate, Division of Waste Management and Environmental Protection, Office of Nuclear Material Safety and Safeguards, U.S. Nuclear Regulatory Commission, Rockville, Maryland, 20852. Telephone: (301) 415-6721; fax number: (301) 415-5397; e-mail: tbs1@nrc.gov.

SUPPLEMENTARY INFORMATION:

I. Introduction

The Nuclear Regulatory Commission (NRC) is considering the issuance of an exemption from certain requirements in 10 CFR Part 20 for Connecticut Yankee Atomic Power Company to relax certain control tracking requirements related to transportation of low-level radioactive waste from the Haddam Neck Plant (HNP) in East Hampton, Connecticut. The HNP site consists of one permanently shutdown nuclear reactor facility located near East Hampton, Connecticut. Inherent to the decommissioning process, large volumes of slightly contaminated rubble and debris are generated and require disposal. On June 1, 2004, Connecticut Yankee Atomic Power Company (CYAPCO, the licensee) requested an exemption from the requirements in 10 CFR Part 20, Appendix G Section III.E to investigate and file a report to the NRC if shipments of low-level radioactive waste are not acknowledged by the intended recipient within 20 days after transfer to the shipper. This exemption would extend the time period that can elapse during shipments of low-level radioactive waste before the licensee is required to investigate and file a report to the NRC from 20 days to 35 days. The exemption request is based on a statistical analysis of the historical data of low-level radioactive waste shipment times from the licensee's site to the disposal site using truck or combination truck/rail shipping methods. NRC has prepared an Environmental Assessment (EA) in support of this amendment in accordance with the requirements of 10 CFR Part 51. Based on the EA, the NRC has concluded that a Finding of No Significant Impact (FONSI) is appropriate. The exemption will be issued following the publication of this Notice.

II. EA Summary

The purpose of the proposed action is to authorize an exemption to extend the 20-day investigation and reporting requirements for shipments of low-level radioactive waste to 35 days from the licensee's East Hampton, Connecticut facility. Specifically, since 2003, the licensee has made over 40 shipments of low-level radioactive waste as part of the decommissioning efforts at the facility. MHF Logistical Solutions (MHF) is the carrier company used by the licensee to perform these shipments. MHF has a tracking system that monitors the progress of the shipments from their originating point at HNP until they arrive at their final destination at Envirocare in Clive, Utah. The shipments are made by either truck or combination truck/rail. According to the licensee, the transportation time alone by either truck or combination truck/rail took over 21 days on average, with one shipment taking 25 days to arrive at Envirocare.

In addition to this time, administrative procedures at Envirocare and mail delivery could add up to 4 additional days. Based on historical data and estimates of the remaining waste at HNP, the licensee could have to perform over 400 investigations and reports to the NRC during the next three years, if the 20-day shipping criteria is maintained. The licensee affirms that the low-level radioactive waste shipments are tracked throughout transportation until they arrive at their intended destination. The licensee believes that the need to investigate, trace, and report to the NRC on the shipment of low-level radioactive waste packages not reaching their destination within 20 days does not serve the underlying purpose of the rule and it is not necessary. As a result, the licensee states that granting this exemption will not result in an undue hazard to life or property.

The staff has prepared the EA in support of the proposed license amendment. The NRC has examined the licensee's proposed exemption request and concluded that it is procedural and administrative in nature. There are no significant radiological environmental impacts associated with this exemption, and it will not result in significant nonradiological environmental impacts.

III. Finding of No Significant Impact

On the basis of the EA, NRC has concluded that there are no significant environmental impacts from the proposed amendment and has determined not to prepare an environmental impact statement.

IV. Further Information

Documents related to this action, including the application for exemption and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: (1) The licensee's exemption request letter dated June 1, 2004, is ML041680573, and (2) the EA is ML042370633. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 30th day of September 2004.
For the Nuclear Regulatory Commission.
Daniel M. Gillen,
Deputy Director , Decommissioning Directorate, Division of Waste Management and Environmental Protection, Office of Nuclear Material Safety and Safeguards.

[FR Doc. 04-22403 Filed 10-5-04; 8:45 am]

BILLING CODE 7590-01-P